DEPARTMENT OF TRANSPORTATION

Surface Transportation Board

[STB Finance Docket No. 34882]

Longview Switching Company—Trackage Rights Exemption—BNSF Railway Company

BNSF Railway Company (BNSF) has agreed to grant overhead trackage rights to Longview Switching Company (LSC) over BNSF's Seattle Subdivision between a point south of Longview Junction, WA, at milepost 104.0 and a point north of Kelso, WA, at milepost 96.0, a distance of approximately 8.0 miles (Joint Trackage).

The transaction was scheduled to be consummated on or after June 13, 2006, the effective date of the exemption.

The purpose of the trackage rights is to allow for the overhead movement of BNSF and Union Pacific Railroad Company (UP) cars being handled by LSC during switching operations in the vicinity of Longview Junction.¹

¹ UP has trackage rights over the Joint Trackage pursuant to a trackage rights agreement dated July 1, 1909, as supplemented, between predecessors of BNSF and UP.

As a condition to this exemption, any employees affected by the trackage rights will be protected by the conditions imposed in Norfolk and Western Ry. Co.—Trackage Rights—BN, 354 I.C.C. 605 (1978), as modified in Mendocino Coast Ry. Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34882, must be filed with the Surface Transportation Board, 1925 K Street, NW., Washington, DC 20423-0001. In addition, a copy of each pleading must be served on: Sidney L. Strickland Jr., Sidney Strickland and Associates, PLLC, 3050 K Street, NW., Suite 101, Washington, DC 20007.

Board decisions and notices are available on its Web site at http://www.stb.dot.gov.

Decided: June 20, 2006.
By the Board, David M. Konschnik, Director, Office of Proceedings.
Vernon A. Williams,
Secretary.

[FR Doc. E6-10035 Filed 6-23-06; 8:45 am]

BILLING CODE 4915-01-P